DEPARTMENT OF COMMERCE

Foreign-Trade Zones Board

[B-106-2013]

Authorization of Production Activity; Foreign-Trade Subzone 37D; Xylem Water Systems USA LLC (Centrifugal, Submersible Pumps and Related Components); Auburn, New York

On December 2, 2013, Xylem Water Systems USA LLC, operator of Subzone 37D, submitted a notification of proposed production activity to the Foreign-Trade Zones (FTZ) Board for its facilities in Auburn, New York.

The notification was processed in accordance with the regulations of the FTZ Board (15 CFR part 400), including notice in the Federal Register inviting public comment (78 FR 77649, 12-24-2013). The FTZ Board has determined that no further review of the activity is warranted at this time. The production activity described in the notification is authorized, subject to the FTZ Act and the FTZ Board's regulations, including Section 400.14.

Dated: April 2, 2014.
Andrew McGilvray,
Executive Secretary.

[FR Doc. 2014-07962 Filed 4-8-14; 8:45 am]

BILLING CODE 3510-DS-P